DEPARTMENT OF HEALTH AND HUMAN SERVICES

Centers for Disease Control and Prevention

[Program Announcement 04225]

Evaluation of Antiretroviral (ARV) Delivery Systems at The AIDS Support Organization in the Republic of Uganda; Notice of Intent To Fund Single Eligibility Award

A. Purpose

The Centers for Disease Control and Prevention (CDC) announces the intent to fund fiscal year (FY) 2004 funds for a cooperative agreement program for Evaluation of Antiretroviral (ARV) Delivery Systems at The AIDS Support Organization in the Republic of Uganda. The Catalog of Federal Domestic Assistance number for this program is 93.941.

B. Eligible Applicant

Assistance will only be provided to the Medical Research Council (MRC) of the United Kingdom. No other applications are solicited.

The need for research on ARV treatment delivery is extremely urgent and the value of PEPFAR's already substantial investment in ARVs in Uganda will be greatly enhanced by rapid results.

The MRC is the only current CDC partner working with TASO on HIV/AIDS care and treatment projects. They have demonstrated their capacity for rigorous operational research and evaluation with TASO in respect to previous studies of Izoniazid prophylaxis, cotrimoxazole prophylaxis and ART at TASO Entebbe. TASO has been funded under PEPFAR Track 1.5 to implement the provision of ARVs and a basic care package at five centers. One of the centers is in the Jinja District. Because implementation of this program will begin in September 2004, it is necessary to work with an organization already conducting research with TASO at one of its centers. The MRC has a well-staffed and equipped station of experienced researchers who have conducted more than five major research projects at multiple TASO centers since 1994. The MRC has virological and other laboratories in Entebbe. The Entebbe facilities are essential to conducting the research since biomedical evaluation of adherence must be conducted by measuring HIV viral load.

No other partner could develop the capacity which MRC and TASO have in combination within a few months.

C. Funding

Approximately $550,000 is available in FY 2004 to fund this award. It is expected that the award will begin on or before September 1, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: (770) 488-2700.

For program technical assistance, contact: Jonathan Mermin, MD, MPH, Global Aids Program [GAP], Uganda Country Team, National Center for HIV, STD and TB Prevention, Centers for Disease Control and Prevention [CDC], PO Box 49, Entebbe, Uganda. Telephone: +256-41320776, E-mail: jhm@cdc.gov.

For financial, grants management, or budget assistance, contact: Shirley Wynn, Contract Specialist, CDC Procurement and Grants Office, 2920 Brandywine Road, Atlanta, GA 30341, Telephone: (770) 488-1515, E-mail: zbx6@cdc.gov.

Dated: June 18, 2004.
William P. Nichols,
Acting Director, Procurement and Grants Office, Centers for Disease Control and Prevention.

[FR Doc. 04-14306 Filed 6-23-04; 8:45 am]

BILLING CODE 4163-18-P